DEPARTMENT OF THE INTERIOR

Bureau of Ocean Energy Management, Regulation and Enforcement

Notice on Outer Continental Shelf Oil and Gas Lease Sales

AGENCY: Bureau of Ocean Energy Management, Regulation and Enforcement, Interior.

ACTION: List of restricted joint bidders.

SUMMARY: Pursuant to the authority vested in the Director of the Bureau of Ocean Energy Management, Regulation and Enforcement by the joint bidding provisions of 30 CFR 256.41, each entity within one of the following groups shall be restricted from bidding with any entity in any other of the following groups at Outer Continental Shelf oil and gas lease sales to be held during the bidding period November 1, 2010, through April 30, 2011. The List of Restricted Joint Bidders published in the Federal Register on May 3, 2010, covered the period May 1, 2010, through October 31, 2010.

Group I | Exxon Mobil Corporation.
| ExxonMobil Exploration Company.
Group II | Shell Oil Company.
| Shell Offshore Inc.
| SWEPI LP.
| Shell Frontier Oil & Gas Inc.
| Shell Onshore Ventures Inc.
| SOI Finance Inc.
| Shell Rocky Mountain Production LLC.
| Shell Gulf of Mexico Inc.
| East Resources Management, LLC.
Group III | BP America Production Company.
| BP Exploration & Production Inc.
| BP Exploration (Alaska) Inc.
Group IV | Chevron Corporation.
| Chevron U.S.A. Inc.
| Chevron Midcontinent, LP.
| Unocal Corporation.
| Union Oil Company of California.
| Pure Partners, LP.
Group V | ConocoPhillips Company.
| ConocoPhillips Alaska, Inc.
| Phillips Pt. Arguello Production Company.
| Burlington Resources Oil & Gas Company LP.
| Burlington Resources Offshore Inc.
| The Louisiana Land and Exploration Company.
| Inexeco Oil Company.
Group VI | Eni Petroleum Co. Inc.
| Eni Petroleum US LLC.
| Eni Oil US LLC.
| Eni Marketing Inc.
| Eni BB Petroleum Inc.
| Eni US Operating Co. Inc.
| Eni BB Pipeline LLC.
Group VII | Petrobras America Inc.
| Petroleo Brasileiro S.A.
Group VIII | StatoilHydro ASA.
| Statoil Gulf of Mexico LLC.
| StatoilHydro USA E&P, Inc.
| StatoilHydro Gulf Properties Inc.
Group IX | Total E&P, Inc.

Dated: January 3, 2011.
Michael R. Bromwich,
Director, Bureau of Ocean Energy Management, Regulation and Enforcement.

[FR Doc. 2011-1319 Filed 1-21-11; 8:45 am]

BILLING CODE 4310-MR-P